DEPARTMENT OF HOMELAND SECURITY

[Docket No. DHS-2011-0025]

National Emergency Communications Plan (NECP) Tribal Report

AGENCY: National Protection and Programs Directorate, DHS.

ACTION: 60-Day Notice and request for comments; New Information Collection Request: 1670-NEW.

SUMMARY: The Department of Homeland Security (DHS), National Protection and Programs Directorate (NPPD), Office of Cybersecurity and Communications (CS&C), Office of Emergency Communications (OEC), will submit the following Information Collection Request to the Office of Management and Budget (OMB) for review and clearance in accordance with the Paperwork Reduction Act of 1995 (Pub. L. 104-13, 44 U.S.C. Chapter 35). NPPD is soliciting comments concerning New Information Collection Request, NECP Tribal Report.

DATES: Comments are encouraged and will be accepted until June 20, 2011. This process is conducted in accordance with 5 CFR part 1320.

ADDRESSES: Written comments and questions about this Information Collection Request should be forwarded to NPPD/CS&C/OEC, Attn.: Ryan Oremland, Ryan.Oremland@dhs.gov. Written comments should reach the contact person listed no later than June 20, 2011. Comments must be identified by “DHS-2011-0025” and may be submitted by one of the following methods:

• Federal eRulemaking Portal: http://www.regulations.gov.

• E-mail: Ryan.Oremland@dhs.gov. Include the docket number in the subject line of the message.

Instructions: All submissions received must include the words “Department of Homeland Security” and the docket number for this action. Comments received will be posted without alteration at http://www.regulations.gov, including any personal information provided.

SUPPLEMENTARY INFORMATION: OEC, formed under Title XVIII of the Homeland Security Act of 2002, 6 U.S.C. 101 et seq., is required to develop the NECP, which will include identification of goals, timeframes, and appropriate measures to achieve interoperable communications capabilities. The NECP Tribal Report is designed to meet these statutory requirements.

OEC will use the information gained through the reports to track progress that tribes are making in implementing milestones and demonstrating goals of the NECP. The report will provide OEC with broader capability data across the lanes of the Interoperability Continuum, which are key indicators of consistent success in response-level communications.

Tribes with public safety capabilities (police, fire, emergency medical services, emergency managers, dispatchers, radio operators, government workers, etc.) will be responsible for collecting this information from their respective tribes. Tribal points of contact will complete and submit the report directly to OEC through paper mailing at DHS/NPPD/CS&C/OEC, Ryan Oremland, 245 Murray Lane, SW., Mailstop 0614, Washington, DC 20528-0614 or unclassified electronic submission to NECPgoals@hq.dhs.gov.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate.

Title: NECP Tribal Report.

From: Not Applicable.

OMB Number: 1670-NEW.

Frequency: Annually.

Affected Public: Tribes.

Number of Respondents: 250.

Estimated Time per Respondent: 0.5 hours.

Total Burden Hours: 125 annual burden hours.

Total Burden Cost (capital/startup): $0.

Total Burden Cost (operating/maintaining): $3,052.50.

Dated: April 12, 2011.
David Epperson,
Chief Information Officer, National Protection and Programs Directorate, Department of Homeland Security.

[FR Doc. 2011-9618 Filed 4-19-11; 8:45 am]

BILLING CODE 9110-9P-P